CONSUMER PRODUCT SAFETY COMMISSION

Understanding the Pending Lead Legislation and the Use of Lead in Consumer Products; Notice of Roundtable To Be Held by CPSC Staff

AGENCY: Consumer Product Safety Commission.

ACTION: Notice of roundtable to be held by Consumer Product Safety (Commission or CPSC) staff.

SUMMARY: On May 13, 2008, the staff of the Consumer Product Safety Commission (Commission or CPSC) will hold a one-day roundtable on understanding the pending lead legislation and the use of lead in consumer products.

DATES: The roundtable will be held on May 13, 2008, from 8 a.m.-4 p.m. at the Consumer Product Safety Commission.

ADDRESSES: The roundtable will be held in Room 420, CPSC's Hearing Room of the East West Towers Building, 4330 East West Highway, Bethesda, MD 20814.

FOR FURTHER INFORMATION CONTACT: Lori Saltzman, Director, Division of Health Sciences, telephone (301) 504-7238, e-mail lsaltzman@cpsc.gov; or Kris Hatlelid, telephone (301) 504-7254, e-mail khatlelid@cpsc.gov.

SUPPLEMENTARY INFORMATION: The staff is holding a one-day roundtable, “Understanding the Pending Lead Legislation and the Use of Lead in Consumer Products.” This roundtable is intended to provide stakeholders with an understanding of the pending Congressional action on lead and the use of lead in consumer products, especially children's products.

CPSC staff will discuss pending lead legislation and enforcement issues, current events abroad, and laboratory testing procedures for lead. Industry representatives will discuss the use of lead in consumer products (for example, paints and coatings, toys, plastics, jewelry, electronics, batteries and textiles), potential substitutes for lead in their products, best practices that can be implemented to eliminate or reduce the use of lead, and differences between domestic manufacturing plants and their practices and those outside the U.S. The roundtable will include question and answer sessions and discussions led by the CPSC staff. A wrap-up session for final comments and questions and answers will conclude the day.

The roundtable is a public event open to anyone interested in lead issues. Although pre-registration is not mandatory, CPSC staff request that attendees pre-register online at http://www.cpsc.gov/cgibin/lead.aspx. For a hard copy of the registration form, contact Todd Stevenson, telephone 301-504-6836, e-mail tstevenson@cpsc.gov.

Dated: April 11, 2008.
Todd A. Stevenson,
Secretary, Consumer Product Safety Commission.

[FR Doc. E8-8285 Filed 4-16-08; 8:45 am]

BILLING CODE 6355-01-P